DEPARTMENT OF DEFENSE

Office of the Secretary

President's Information Technology Advisory Committee (PITAC)

ACTION: Notice of meeting.

SUMMARY: PITAC's Subcommittee on Cyber Security will provide a status update of its activities and present its draft findings and recommendations. PITAC will discuss the Subcommittee's presentation and provide guidance for use in the completion of the report. In addition, an update of the activities of PITAC's Subcommittee on Computational Science will be presented and discussed. Each of the sessions for the two Subcommittees will conclude with a public comment period. A small fraction of the meeting time will be allocated for other PITAC updates at the discretion of the co-hairs and designated Federal officer.

DATES: Wednesday, October 20, 2004, 10 a.m. to 3 p.m.

ADDRESSES: National Science Foundation, Stafford II Building—Room 555, 4201 Wilson Boulevard, Arlington, Virginia 22230.

SUPPLEMENTARY INFORMATION: Members of the public are invited to attend this meeting in-person at the National Science Foundation. Remote participation by teleconference and the Internet (through the Webex application) will also bed supported. Detailed information about this meeting, including the agenda and details concerning registration for in-person or remote participation, will be posted at PITAC's Web site (http“//www.nitrd.gov/pitac) no later than October 6th. This information may also be obtained by calling 703-292-4873

FOR FURTHER INFORMATION CONTACT: Alan Inouye at the National Coordination Office for Information Technology Research and Development at 703-292-4873 or by email at inouye@nitrd.gov.

Dated: September 28, 2004.
L. M. Bynum,
Alternate OSD Federal Register Liaison Officer, Department of Defense.

[FR Doc. 04-22173 Filed 10-01-04; 8:45 am]

BILLING CODE 5001-06-M